DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Intent; Information and Scoping Meetings for the Goat Canyon Enhancement Project.

SUMMARY: The National Ocean Service announces its intention to prepare a joint draft environmental impact statement/environmental impact report (EIS/EIR) with the State of California Department of Parks and Recreation for the construction of sedimentation, flood control and other facilities within and adjacent to Goat Canyon, located in San Diego County, California, in the vicinity of the international border with Mexico and within the Tijuana River National Estuarine Research Reserve (TRNERR). These facilities are intended to enhance the existing Goat Canyon Creek and its natural habitat communities, including the Tijuana River Estuary, through the management of sediment within the canyon and on the adjacent alluvial fan. The scope of analysis will include all activities addressing the enhancement of Goat Canyon Creek.

The National Oceanic and Atmospheric Administration (NOAA) will hold a scoping meeting on August 25, from 1-3 p.m. to receive public input on the range of issues and alternatives to be covered in the joint EIS/EIR. NOAA is also accepting written comments on these topics.

DATES: Written comments will be accepted through September 8, 2000.

ADDRESSES: Written comments and requests to be included on a mailing list of persons interested in the joint EIS/EIR should be sent to Nina Garfield, NOAA-ERD, SSMC-4, 11th Floor, 1305 East West Hwy, Silver Spring, MD, 20910.

FOR FURTHER INFORMATION CONTACT: Tessa Roper, Project Manager, Goat Canyon Enhancement Project, Southwest Wetlands Interpretive Association, 301 Caspian Way, Imperial Beach, CA, 91932, tel. 619-575-3613.

SUPPLEMENTARY INFORMATION: The Goat Canyon Enhancement Project will be conducted within the TRNERR, in San Diego County, California and includes a series of sediment retention basins to be constructed within the Goat Canyon Creek watershed beginning at the international border and continuing downstream. Through the National Estuarine Research Reserve Program, NOAA is providing partial funding for the project. In addition to the construction of sedimentation basins, portions of Goat Canyon Creek will be restored to a creek bed that follows the coastal bluffs before turning westward. The project also includes a realignment of Monument Road through Border Field State Park lands. These facilities are intended to enhance the existing Goat Canyon Creek and its natural habitat communities, including the Tijuana River Estuary, through the management of sediment within the canyon and on the adjacent alluvial fan. The proposed project is in conformance with the Final Goat Canyon/Cañon de los Laureles Enhancement Plan prepared by the Southwest Wetlands Interpretive Association (SWIA). It is anticipated that the project will feature some variation of two small, in-line sedimentation basins and two to three larger avulsion basins in the alluvial fan. A realigned, elevated Monument Road will be integrated into the basin layout as part of the project. In addition, several staging areas and loading pads will be included for system maintenance. Maintenance is expected to include, minimally, the removal of debris following storm events, the periodic removal of accumulated sediment, and the management of vegetation growth.

Alternatives

In the joint EIS/EIR, NOS will consider a reasonable range of alternatives for the enhancement of Goat Canyon, including alternatives to the location and number of sedimentation and avulsion basins and the No Action alternative, and will evaluate their potential environmental impacts. Through this scoping process, NOS requests public input on the scope of issues to be addressed, to identify significant issues related to the project, and public input on enhancement alternatives that should be considered in the joint EIS/EIR. At the scoping, NOS will present draft alternatives that will be developed further in response to comments on the joint EIS/EIR.

Issues

Based on a preliminary review it is anticipated that the project may result in significant environmental impacts in the following areas: aesthetics, air quality, biological resources, cultural resources, geology and soils, hydrology and water quality, land use and planning, recreational resources, noise, public services, transportation/traffic, and utilities and service systems. For each of these issues, the existing baseline conditions will be described in the Affected Environment portion of the EIS/EIR; the nature and significance of any impacts expected from the proposed project and the alternatives to the project will be summarized in the Environmental Consequences section; and mitigation measures for adverse effects will be provided in the Mitigation Measures section. In addition to these sections, the EIS/EIR will contain all other mandatory sections including a Summary, Introduction, Environmental Setting, a Purpose of and Need for Action statement, an Alternatives section, analysis of the potential Cumulative Effects, Effects Found Not To Be Significant, and Growth-Inducing Effects.

Consultations

Pursuant to section 7(a)(2) of the Endangered Species Act (ESA), consultations for listed species and critical habitat affected by the proposal to enhance Goat Canyon will be initiated with the U.S. Fish and Wildlife Service and the National Marine Fisheries Service. These consultations will analyze the individual and cumulative impacts of activities relating to Goat Canyon to determine whether the impacts are likely to jeopardize the continued existence of listed species.

Public Involvement

Scoping for the joint EIS/EIR begins with publication of this notice. A formal scoping meeting to receive comments will be held at the Tijuana Estuary Visitor Center, 301 Caspian Way, Imperial Beach, CA, on August 25, 2000 from 1-3 p.m.

Special Accommodations

The meeting is physically accessible to people with disabilities. Requests for sign language interpretation or other auxiliary aids should be directed to Tessa Roper, Goat Canyon Enhancement Project, Southwest Wetlands Interpretive Association, 301 Caspian Way, Imperial Beach, CA, 91932, tel. 619-575-3613.

Federal Domestic Assistance Catalog Number 11.420 (Coastal Zone Management) Research Reserves.
Dated: August 4, 2000.
Captain Ted I. Lillestolen,
Deputy Assistant Administrator For Ocean Services and Coastal Zone Management.

[FR Doc. 00-20281 Filed 8-9-00; 8:45 am]

BILLING CODE 3510-08-P